INTERNATIONAL TRADE COMMISSION

[USITC SE-18-048]

Government in the Sunshine Act Meeting Notice

TIME AND DATE: October 25, 2018 at 11:00 a.m.

PLACE: Room 101, 500 E Street SW, Washington, DC 20436, Telephone: (202) 205-2000.

STATUS: Open to the public.

MATTERS TO BE CONSIDERED:

1. Agendas for future meetings: None.

2. Minutes.

3. Ratification List.

4. Vote in Inv. No. 731-TA-1110 (Second Review) (Sodium Hexametaphosphate from China). The Commission is currently scheduled to complete and file its determination and views of the Commission by November 15, 2018.

5. Outstanding action jackets: None.

In accordance with Commission policy, subject matter listed above, not disposed of at the scheduled meeting, may be carried over to the agenda of the following meeting.

By order of the Commission.
Issued: October 16, 2018.
William Bishop,
Supervisory Hearings and Information Officer.

[FR Doc. 2018-23041 Filed 10-18-18; 11:15 am]

BILLING CODE 7020-02-P